DEPARTMENT OF THE TREASURY

Office of Thrift Supervision

[AC-28 OTS Nos. 0373 and 114566]

Newton County Loan and Savings, FSB, Goodland, IN; Approval of Conversion Application

Notice is hereby given that on January 8, 2009, the Office of Thrift Supervision approved the application of Newton County Loan and Savings, FSB, Goodland, Indiana, to convert to the stock form of organization.

Copies of the application are available for inspection by appointment (phone number: (202) 906-5922 or e-mail: public.info@ots.treas.gov) at the Public Reading Room, 1700 G Street, NW., Washington, DC 20552, and the OTS Central Regional Office, One South Wacker Drive, Suite 2000, Chicago, Illinois 60606.

Dated: February 5, 2009.
By the Office of Thrift Supervision.
Sandra E. Evans,
Federal Register Liaison.

[FR Doc. E9-2935 Filed 2-11-09; 8:45 am]

BILLING CODE 6720-01-M